PEACE CORPS

Privacy Act of 1974; Systems of Records

AGENCY: Peace Corps

ACTION: Correction—Notice of Modification to Existing System of Records.

SUMMARY: Pursuant to the Privacy Act of 1974, the Peace Corps is issuing public notice that one of its systems of records is being re-numbered.

FOR FURTHER INFORMATION CONTACT: Marianne Manheim, (202) 692-1186.

SUPPLEMENTARY INFORMATION: The Peace Corps published a notice of its proposal to create a new system of records, PC-26 Antimalarial Tolerance Survey. Federal Register: July 16, 2004 (Volume 69, Number 136, pages 42784-42785), as corrected at Federal Register: August 3, 2004 (Volume 69, Number 148, page 46629). This system is being renumbered as PC-27 Antimalarial Tolerance Survey. No other modifications to the system of records are being made.

This modification is effective on the date of publication.

Dated: September 23, 2005.
Gilbert Smith,
Associate Director for Management.

[FR Doc. 05-19772 Filed 9-30-05; 8:45 am]

BILLING CODE 6015-01-M